NATIONAL AERONAUTICS AND SPACE ADMINISTRATION

[Notice (02-113)]

Government-Owned Inventions, Available for Licensing

ACTION: Notice of availability of inventions for licensing.

SUMMARY: The invention listed below is assigned to the National Aeronautics and Space Administration, have been filed in the United States Patent and Trademark Office, and are available for licensing.

DATES: September 27, 2002.

FOR FURTHER INFORMATION CONTACT: Kent N. Stone, Patent Counsel, Glenn Research Center at Lewis Field, Mail Code 500-118, Cleveland, OH 44135; telephone (216) 433-8855, fax (216) 433-6790.

NASA Case No. LEW-16056-4: Design And Manufacture Of Long-Life Hollow Cathode Assemblies;

NASA Case No. LEW-17093-1: NiA1-Based Approach For Rocket Combustion Chambers;

NASA Case No. LEW-17112-1: Seal For Large Structural Movements;

NASA Case No. LEW-17170-1: Common-Layered Architecture For Semiconductor Silicon Carbide (CLASSIC) Bulk Fabrication;

NASA Case No. LEW-17206-1: Economical Dual Microstructure Heat Treatment Apparatus/Process;

NASA Case No. LEW-17270-1: Innovative Heat Pipe Systems Using New Working Fluids;

NASA Case No. LEW-17275-1: Low CTE X2 Phase Rate Earth Silicate-Based EBC/TBC's For Si-Based Ceramics;

NASA Case No. LEW-17299-1: Polyimide Rod-Coil Block Copolymers As Membrane Materials For Ion Conduction;

NASA Case No. LEW-17316-1: Bearingless Switched Reluctance Motor, Aka “Morrison Roto”;

NASA Case No. LEW-16636-2: Reduced Toxicity Fuel Satellite Propulsion System Including Catalytic Decomposing Element With Hydrogen Peroxide;

NASA Case No. LEW-16636-3: Reduced Toxicity Fuel Satellite Propulsion System Including Fuel Cell Reformer With Alcohols;

NASA Case No. LEW-16636-4: Reduced Toxicity Fuel Satellite Propulsion System Including Plasmatron;

NASA Case No. LEW-16636-5: Reduced Toxicity Fuel Satellite Propulsion System Including Axial Thruster And ACS Thruster Combination;

NASA Case No. LEW-16988-1: Magnetohydrodynamic Power Extraction And Flow Conditioning In A Gas Turbine Inlet;

NASA Case No. LEW-17111-1: Planar Particle Imaging And Doppler Velocimetry (PPIDV);

NASA Case No. LEW-17133-1: High Performance Polymers From The Diels-Alder Trapping Of Photochemically Generated Intermediates;

NASA Case No. LEW-17017-1: Minimally Intrusive Supersonic Injectors For Augmented Rocket And RBCC/Scramjet Propulsion Systems;

NASA Case No. LEW-17068-1: Micro-Scalable Thermal Control Device;

NASA Case No. LEW-17186-1: Method For Growing Low-Defect Single Crystal Heteroepitaxial Films.

Dated: September 20, 2002.
Robert M. Stephens,
Deputy General Counsel.

[FR Doc. 02-24524 Filed 9-26-02; 8:45 am]

BILLING CODE 7590-01-P